DEPARTMENT OF TRANSPORTATION

National Highway Traffic Safety Administration

[Docket No. NHTSA-2003-14628]

Extension of Comment Period on Whether Nonconforming 1996 and 1997 Lamborghini Diablo Passenger Cars Are Eligible for Importation

AGENCY: National Highway Traffic Safety Administration (NHTSA), DOT.

ACTION: Extension of comment period.

SUMMARY: On March 12, 2003, NHTSA published notice (at 68 FR 11898) that it had received a petition to decide that nonconforming 1996 and 1997 Lamborghini Diablo passenger cars are eligible for importation into the United States. The notice solicited public comments on the petition and stated that the closing date for comments is April 11, 2003.

This is to notify the public that NHTSA is extending the comment period until May 30, 2003. This extension is based on a request from Automobili Lamborghini S.p.A. (“Lamborghini”). In requesting the extension, Lamborghini noted that its available resources for responding to the petition are “seriously constrained.” In particular, Lamborghini stated that it has only two employees who would be able to conduct the necessary research to prepare the response and those employees will be on travel in the United States for three to four weeks beginning March 18, 2003 to prepare the company's emission certification on a vehicle to be introduced in the 2004 model year.

DATES: Comments on the import eligibility petition must be submitted on or before May 30, 2003.

ADDRESSES: Comments are to be submitted to: Docket Management, Room PL-401, 400 Seventh St., SW., Washington, DC 20590 (Docket hours are from 9 am to 5 pm). Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: March 27, 2003.
Kenneth N. Weinstein,
Associate Administrator for Enforcement.

[FR Doc. 03-7809 Filed 3-31-03; 8:45 am]

BILLING CODE 4910-59-P